DEPARTMENT OF AGRICULTURE

Food and Nutrition Service

Agency Information Collection Activities: Proposed Collection; Comment Request: Supplemental Nutrition Assistance Program, Administrative Review Requirements—Food Retailers and Wholesalers

AGENCY: Food and Nutrition Service (FNS), USDA.

ACTION: Notice.

SUMMARY: In accordance with the Paperwork Reduction Act of 1995, this notice invites the general public and other public agencies to comment on proposed information collections. The proposed collection is a revision of a currently approved collection.

DATES: Written comments must be received on or before May 5, 2009 to be assured of consideration.

ADDRESSES: Comments are invited on (a) Whether the proposed collection of information is necessary for the proper performance of the functions of the agency, including whether the information has practical utility; (b) the accuracy of the agency's estimate of the burden of the proposed collection of information, including the validity of the methodology and assumptions that were used; (c) ways to enhance the quality, utility, and clarity of the information to be collected; and (d) ways to minimize the burden of the collection of information on those who are to respond, including the use of appropriate automated, electronic, mechanical, or other technological collection techniques or other forms of information technology.

Comments may be sent to Andrew Furbee, Acting Chief, Administrative Review Branch, Benefit Redemption Division, U.S. Department of Agriculture, Food and Nutrition Service, 3101 Park Center Drive, Room 608, Alexandria, Virginia 22302. Comments may also be submitted via fax to the attention of Andrew Furbee at (703) 305-2821, or via e-mail to brdhq-web@fns.usda.gov.

All written comments will be open for public inspection at the office of the Food and Nutrition Service during regular business hours (8:30 a.m. to 5 p.m., Monday through Friday) at 3101 Park Center Drive, Alexandria, Virginia 22303, Room 608.

All responses to this notice will be summarized and included in the request for Office of Management and Budget (OMB) approval. All comments will be a matter of public record.

FOR FURTHER INFORMATION CONTACT: Requests for additional information should be directed to Andrew Furbee, (703) 305-2822.

SUPPLEMENTARY INFORMATION: Title: Request for Administrative Review.

OMB Number: 0584-0520.

Expiration Date: July 31, 2009.

Type of Request: Revision of a currently approved collection of information.

Abstract: The Food and Nutrition Service (FNS) of the U.S. Department of Agriculture is the Federal agency responsible for the Supplemental Nutrition Assistance Program (SNAP), formerly known as the Food Stamp Program. The Food and Nutrition Act of 2008 (7 U.S.C. 2011-2036) requires that the FNS determine the eligibility of retail food stores and certain food service organizations in order to participate in SNAP. If a food retailer or wholesale food concern is aggrieved by certain administrative action by FNS, that store has the right to file a written request for review of the administrative action with FNS.

Respondents: Retail food stores and wholesale food concerns.

Estimated Number of Respondents: 589.

Number of Responses per Respondent: 1.2.

Estimated Time per Response: Public reporting burden for this collection of information is estimated to average 0.17 of an hour per response.

Estimated Total Annual Burden on Respondents: 120.16 hours.

Dated: March 3, 2009.
E. Enrique Gomez,
Acting Administrator, Food and Nutrition Service.

[FR Doc. E9-4817 Filed 3-5-09; 8:45 am]

BILLING CODE 3410-30-P